DEPARTMENT OF ENERGY

Federal Energy Regulatory Commission

[Docket Nos. ER02-925-000 and ER02-925-001]

Southern California Edison Company; Notice of Change of Informal Settlement Conference

August 28, 2002.

The Notice of Informal Settlement Conference issued on August 23, 2002 in the above-captioned proceeding stated that the conference would be held on September 4th and 5th 2002 . The dates have been changed to September 5th and 6th, 2002. The time is still 10:00 a.m.

Any party, as defined by 18 CFR 385.102(c), or any participant as defined by 18 CFR 385.102(b), is invited to attend. Persons wishing to become a party must move to intervene and receive intervenor status pursuant to the Commission's regulations (18 CFR 385.214).

For additional information, please contact Thomas J. Burgess at (202)502-6058 or Dawn K. Martin at (202)502-8661.

Linwood A. Watson, Jr.,
Deputy Secretary.

[FR Doc. 02-22473 Filed 9-3-02; 8:45 am]

BILLING CODE 6717-01-P